FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 010955-011.

Agreement Name: ACL/H-L Reciprocal Space Charter and Sailing Agreement.

Parties: Atlantic Container Line, A.B.; Hapag-Lloyd AG.

Filing Party: Wayne Rohde; Cozen O'Connor.

Synopsis: The amendment converts the agreement from a reciprocal space charter to a one-way space charter, narrows the geographic scope, adjusts the amount of space to be chartered, and revises the amount of notice required to resign from the agreement. The amendment also changes the name of the agreement and restates the agreement.

Proposed Effective Date: 12/18/2023.

Location: https://www2.fmc.gov/FMC.Agreements.Web/Public/AgreementHistory/1184.

Agreement No.: 012312-004.

Agreement Name: Grimaldi Euromed S.p.A./Mitsui O.S.K. Lines Ltd./Nissan Motor Car Carrier Co. Space Charter Agreement.

Parties: Grimaldi Euromed S.p.A.; Mitsui O.S.K. Lines Ltd; Nissan Motor Car Carrier Co. Ltd.

Filing Party: Rebecca Fenneman; Jeffrey/Fenneman Law and Strategy PLLC.

Synopsis: The Amendment adds Nissan Motor Car Carrier as a party to the Agreement, changes the Grimaldi entity that is Party to the Agreement, adds the trade between the United States and Japan to the geographic scope, and changes the name of the Agreement to reflect the addition of NMCC.

Proposed Effective Date: 11/7/2023.

Location: https://www2.fmc.gov/FMC.Agreements.Web/Public/AgreementHistory/183.

Agreement No.: 201210-003.

Agreement Name: Port of NY/NJ—Port Authority/Marine Terminal Operators Agreement.

Parties: APM Terminals Elizabeth, LLC; Port Liberty Bayonne LLC; Maher Terminals LLC; Port Liberty New York LLC; Port Newark Container Terminal LLC; Red Hook Container Terminal, LLC.

Filing Party: Carol Lambos; The Lambos Firm LLP.

Synopsis: The Amendment reflects the name changes of member companies GCT Bayonne LP and GCT New York LP to Port Liberty Bayonne LLC and Port Liberty LLC respectively, and adds Red Hook Container Terminal LLC to the agreement.

Proposed Effective Date: 12/18/2023.

Location: https://www2.fmc.gov/FMC.Agreements.Web/Public/AgreementHistory/2135.

Agreement No.: 201410.

Agreement Name: CMA CGM/Maersk A/S Vessel Sharing Agreement USEC/Caribbean/Central America Service.

Parties: Maersk A/S; CMA CGM S.A.

Filing Party: Draughn Arbona; CMA CGM.

Synopsis: The Agreement authorizes the Parties to share vessels with one another and cooperate on a weekly liner service in the Trade between ports in Jamaica, Venezuela, Colombia, Honduras and Guatemala and the inland and coastal points served by such ports, on one hand, and ports on the U.S. East Coast and the inland and coastal points served by such ports, on the other hand.

Proposed Effective Date: 12/20/2023.

Location: https://www2.fmc.gov/FMC.Agreements.Web/Public/AgreementHistory/84527.

Agreement No.: 201411.

Agreement Name: NPDL/PFLG Slot Charter Agreement.

Parties: Neptune Pacific Direct Line Pte. Ltd.; Pacific Forum Line (Group) Limited.

Filing Party: David Monroe; GKG Law, P.C.

Synopsis: The Agreement authorizes NPDL to charter space to PFLG in the trade between and among ports in Australia, American Samoa, Samoa and Tonga.

Proposed Effective Date: 11/7/2023.

Location: https://www2.fmc.gov/FMC.Agreements.Web/Public/AgreementHistory/84528.

Dated: November 9, 2023.
Carl Savoy,
Federal Register Alternate Liaison Officer.

[FR Doc. 2023-25282 Filed 11-15-23; 8:45 am]

BILLING CODE 6730-02-P